ENVIRONMENTAL PROTECTION AGENCY

[FRL-6704-4]

Application From the States of Utah and Arizona for the Prohibition of the Discharge of Vessel Sewage Into Lake Powell; Notice of Receipt

The States of Utah and Arizona have submitted a joint application to the United States Environmental Protection Agency (EPA) to prohibit the discharge of sewage from all vessels into Lake Powell. Section 312(f)(3) of the Clean Water Act, 33 U.S.C. 1322(f)(3), allows States to prohibit discharges of sewage, whether treated or not, into some or all of their waters, except that no such prohibition shall apply until the EPA determines that adequate facilities are reasonably available for the safe and sanitary removal and treatment of sewage from all vessels on the waters to be covered by the prohibition.

For the reasons explained below, the EPA proposes to make an affirmative determination that adequate facilities exist, meaning that the States' complete prohibition of sewage discharges from vessels on Lake Powell would become effective. The EPA officials authorized to make this determination are the undersigned Regional Administrators for EPA Regions VIII and IX. (Region VIII includes Utah, and Region IX includes Arizona.) Before making this determination, however, the EPA is publishing this notice in order to announce that it has received this application and to provide any interested member of the public with an opportunity to comment on the application and/or the EPA's proposed determination.

Utah and Arizona submitted their joint application to the EPA in January of 2000 in cooperation with the Navajo Nation and the National Park Service, Glen Canyon National Recreational Area. According to the application, jurisdictional and enforcement authority for Lake Powell will reside with the respective States and the National Park Service. The Utah Department of Environmental Quality, the Utah Department of Natural Resources, the Arizona Department of Environmental Quality, the Arizona Department of Fish and Game and the National Park Service, Glen Canyon National Recreation Area will all be the enforcing agents should this application be approved. The United States Coast Guard also will be asked to continue its enforcement role.

The joint application states that Lake Powell is 186 miles long, with approximately 2000 miles of shore line. It receives 2.5 million visitors annually, with 4.3 million visitor days. Approximately 95% of the Lake is in Utah and 5% is in Arizona. The Navajo Nation bounds on the southeast portion of Lake Powell, but the jurisdiction of the Navajo Nation is not affected by the application of Utah and Arizona.

As described in more detail in the States' application, there are six authorized vessel entry/take-out points on the Lake: Wahweap, Stateline, Hite, Bullfrog, Hall's Crossing, and Antelope Point. The first five locations have major pumpout facilities. Due to the geomorphology of the Lake, it is nearly impossible to remove or launch a vessel from any other point on the Lake. A major water accessible vessel pumpout facility is also located at Dangling Rope. Each major facility has multiple pumps. In addition, eight supplemental mechanically operated floating pump out facilities are located at various areas on the Lake. These pumps are: Warm Creek Bay, located in Warm Creek Bay; Dominiquez Butte, near Lake Powell Channel Mile Marker 22; Rock Creek, near Lake Powell Channel Mile Marker 35; Oak Bay, located near Lake Powell Channel Mile Marker 51; Escalante, located near Lake Powell Channel Mile Marker 68A; Rincon, near Lake Powell Channel Mile Marker 77A; Hall's Creek Bay, located in Hall's Creek Bay on the Eastside; and Forgotten Canyon, near Lake Powell Channel Mile Marker 106. There are sixty-nine pumpouts on the Lake. All the facilities identified above are operational 24 hours per day. None of the facilities identified will exclude any vessel because of insufficient water depth adjacent to the facility. There are no fees to pump out at any facility. Treatment of all wastes from the pumpout facilities is to be in conformance with Federal law.

The States of Utah and Arizona, the Navajo Nation, and the National Park Service have stated that the complete prohibition of discharge from all vessels of any sewage, treated or not, into Lake Powell is necessary. Numerous beach closures have occurred because of fecal coliform bacterial contamination over the last several years. While it has not been demonstrated that these closures are due solely to vessel sewage, such discharges may be the cause of the closures. Prevention of discharge of human wastes to the waters of the Lake is critically important to protect public health and water quality of this important national resource.

The joint application also provides the following information regarding vessel use on Lake Powell:

Vessels With Installed Toilets
| Resident | Transient | Total No.
Peak* Day Usage (Memorial Day through Labor Day) | 1,800 | 5,600 | 7,400
Off Peak Day Usage | 275 | 225 | 500
* July 4, 1999.

Peak* Pumping Station Use Calculations
Total Vessels | 7,400.
Average Stay | 5 days.
Pumpout Events/Day | 1,480.
Pumps/Hoses | 69.
Pumpouts per Station per Day | 22.
Estimated Pumpout time per event | 15 minutes.
Total Time of Pumping per Station @ Peak* Day | 5.5 hours.
* July 4, 1999.

For more information about the requirements for state applications for complete prohibitions of sewage discharges pursuant to section 312(f)(3) of the Clean Water Act, please see 40 CFR 140.4(a). Copies of the application letters from the States of Utah and Arizona are available for public inspection and copying at the EPA's Denver, Colorado office. The person to contact for information is Douglas Johnson (8EPR-EP), U.S. Environmental Protection Agency, Region VIII, 999 18th Street, Denver, CO, 80202-2466 or by telephone at (303) 312-6834. If you are interested in commenting on this application, please address your comments to Mr. Johnson and be sure that your comments are received by the EPA no later than July 6, 2000.

Dated: May 12, 2000.
Jack W. McGraw,
Acting Regional Administrator, Region VIII.
Dated: May 5, 2000.
Laura Yoshii,
Deputy Regional Administrator, Region IX.

[FR Doc. 00-12790 Filed 5-19-00; 8:45 am]

BILLING CODE 6560-50-P